DEPARTMENT OF COMMERCE

International Trade Administration

A-570-848

Notice of Extension of the Preliminary Results of New Shipper Antidumping Duty Reviews: Silicon Metal from the People's Republic of China

AGENCY: Import Administration, International Trade Administration, Department of Commerce.

EFFECTIVE DATE: December 21, 2006.

FOR FURTHER INFORMATION CONTACT: Scot Fullerton or Mike Quigley, AD/CVD Operations, Office 9, Import Administration, International Trade Administration, U.S. Department of Commerce, 14th Street and Constitution Avenue, NW, Washington, DC 20230; telephone: (202) 482-1386 and (202) 482-4047, respectively.

SUPPLEMENTARY INFORMATION:

Background

The Department received timely requests from Shanghai Jinneng International Trade Co., Ltd. (“Shanghai Jinneng”) and Jiangxi Gangyuan Silicon Industry Co., Ltd. (“Jiangxi Gangyuan”) in accordance with 19 CFR 351.214(c) for new shipper reviews of the antidumping duty order on silicon metal from the People's Republic of China. On July 25, 2006, the Department found that the requests for review with respect to Shanghai Jinneng and Jiangxi Guangyuan met all of the regulatory requirements set forth in 19 CFR 351.214(b) and initiated these new shipper antidumping duty reviews covering the period June 1, 2005, through May 30, 2006. See Silicon Metal From the People's Republic of China: Initiation of Antidumping Duty New Shipper Reviews, 71 FR 42084 (July 25, 2006).

Extension of Time Limits for Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated. See 19 CFR 351.214(i)(2).

The Department has determined that the review is extraordinarily complicated as the Department must gather additional publicly available information on surrogate values to use for a highly complex and technical process involving specialized inputs, evaluate the complex corporate structures of both respondents, issue additional supplemental questionnaires, and conduct verifications of both respondents. Based on the timing of the case and the additional information that must be gathered and verified, the preliminary results of this new shipper review cannot be completed within the statutory time limit of 180 days. Accordingly, the Department is extending the time limit for the completion of the preliminary results of the new shipper reviews of Shanghai Jinneng and Jiangxi Guangyuan by 120 days from the original January 14, 2007, deadline. The preliminary results for both new shipper reviews will now be due May 14, 2007, in accordance with section 751(a)(2)(B)(iv) of the Act and 19 CFR 351.214(i)(2). The final results will, in turn, be due 90 days after the date of issuance of the preliminary results, unless extended.

This notice is published pursuant to sections 751(a)(2)(B)(iv) and 777(i)(1) of the Act.

Dated: December 14, 2006.
Stephen J. Claeys,
Deputy Assistant Secretary for Import Administration.

[FR Doc. E6-21851 Filed 12-20-06; 8:45 am]

Billing Code: 3510-DS-S